FEDERAL MARITIME COMMISSION

Meeting; Sunshine Act

Agency Holding the Meeting: Federal Maritime Commission.

Time and Date: June 11, 2008—10 a.m.

Place: 800 North Capitol Street, NW., First Floor Hearing Room, Washington, DC.

Status: A portion of the meeting will be in Open Session and the remainder of the meeting will be in Closed Session.

Matters To Be Considered:

Open Session

(1) Docket No.04-09 American Warehousing of New York, Inc., v the Port Authority of New York and New Jersey, and Docket No. 05-03 American Warehousing of New York, Inc., v the Port Authority of New York and New Jersey.

(2) Designation of Commission Policy Official for the U.S. Committee on the Maritime Transportation System.

(3) Privacy Act System of Records.

Closed Session

(1) Direction to Staff Regarding Budget Hearing Committee Requests.

(2) FMC Agreement No. 201178—Los Angeles/Long Beach Port /Terminal Operator Administration and Implementation Agreement and FMC Agreement No. 201170—Los Angeles and Long Beach Port Infrastructure and Environmental Programs CWA.

(3) Export Cargo Issues Status Report.

(4) Docket No. 06-03 Premier Automotive Services, Inc. v Robert L. Flanagan and F. Brooks Royster, III.

(5) Internal Administrative Practices and Personnel Matters.

Contact Person for More Information: Karen V. Gregory, Assistant Secretary, (202) 523-5725.

Karen V. Gregory,
Assistant Secretary.

[FR Doc. 08-1333 Filed 6-5-08; 9:31 am]

BILLING CODE 6730-01-P